DEPARTMENT OF ENERGY

Federal Energy Regulatory Commission

[Docket No. CP06-421-002]

Transcontinental Gas Pipe Line Corporation; Notice of Petition To Amend

August 29, 2007.

Take notice that on August 17, 2007, Transcontinental Gas Pipe Line Corporation (Transco), Post Office Box 1396, Houston, Texas 77251, filed in Docket No. CP06-421-002, a petition to amend the Commission order issued April 12, 2007, pursuant to section 7 of the Natural Gas Act (NGA) to: (i) Revise the estimated cost of the Potomac Expansion Project (Project) facilities that are anticipated to be placed into service November 1, 2007; (ii) include in the cost of the Project the estimated cost associated with the facility modifications in Fairfax County, Virginia, required by the Commission in the certificate order (the piggable “Y” facilities) which facilities are expected to be in-service October 1, 2008; (iii) revise the initial recourse rates for the Project to reflect the increased cost of Project facilities; and (iv) phase-in the initial recourse rates for the Project to reflect the cost of facilities expected to be placed into service November 1, 2007 and the additional costs associated with the piggable “Y” facilities that are expected to be placed into service October 1, 2008, all as more fully set forth in the petition to amend which is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or call toll free (866) 208-3676, or for TTY contact (202) 502-8659.

Any questions regarding this petition should be directed to Marg Camardello, Manager, Certificates and Tariffs, Transcontinental Gas Pipe Line Corporation, P.O. Box 1396, Houston, Texas 77251 at (713) 215-3380.

Pursuant to § 157.9 of the Commission's rules, 18 CFR 157.9, within 90 days of this Notice, the Commission staff will either complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings in Docket No. CP06-421-002 should, on or before the below listed comment date, file with the Federal Energy Regulatory Commission, 888 First Street, NE., Washington, DC. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of, or in opposition to, this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental comments will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: 5 p.m. Eastern Time on September 16, 2007.

Kimberly D. Bose,
Secretary.

[FR Doc. E7-17668 Filed 9-6-07; 8:45 am]

BILLING CODE 6717-01-P